DEPARTMENT OF TRANSPORTATION

Federal Aviation Administration

14 CFR Part 39

[Docket No. FAA-2022-1058; Project Identifier AD-2022-00256-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2021-07-09, which applies to all The Boeing Company Model 747-100, 747-100B, 747-100B SUD, 747-200B, 747-200C, 747-200F, 747-300, 747-400, 747-400D, 747-400F, 747SR, and 747SP series airplanes. AD 2021-07-09 requires repetitively inspecting all trim air diffuser ducts or sidewall riser duct assemblies (collectively referred to as TADDs) for damage, including repetitive structural inspections of the center fuel tanks for damage, and applicable on-condition actions. Since the FAA issued AD 2021-07-09, the agency has determined that the existing requirements do not adequately address the unsafe condition. This proposed AD would continue to require repetitive inspections of the TADDs for damage with revised compliance times, and repair if applicable. This proposed AD would also require repetitive replacement of the TADDs and would remove the structural inspections of the center fuel tanks. This proposed AD would also prohibit the installation of affected parts. The FAA is proposing this AD to address the unsafe condition on these products.

DATES: The FAA must receive comments on this proposed AD by October 24, 2022.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet myboeingfleet.com. You may view this service information at the FAA, Airworthiness Products Section, Operational Safety Branch, 2200 South 216th St., Des Moines, WA. For information on the availability of this material at the FAA, call 206-231-3195. It is also available at regulations.gov by searching for and locating Docket No. FAA-2022-1058.

Examining the AD Docket

You may examine the AD docket at regulations.gov by searching for and locating Docket No. FAA-2022-1058; or in person at Docket Operations between 9 a.m. and 5 p.m., Monday through Friday, except Federal holidays. The AD docket contains this NPRM, any comments received, and other information. The street address for Docket Operations is listed above.

FOR FURTHER INFORMATION CONTACT: Nicole S. Tsang, Aerospace Engineer, Cabin Safety and Environmental Systems Section, FAA, Seattle ACO Branch, 2200 South 216th St., Des Moines, WA 98198; phone and fax: 206-231-3959; email: nicole.s.tsang@faa.gov.

SUPPLEMENTARY INFORMATION:

Comments Invited

The FAA invites you to send any written relevant data, views, or arguments about this proposal. Send your comments to an address listed under ADDRESSES. Include “Docket No. FAA-2022-1058; Project Identifier AD-2022-00256-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Nicole S. Tsang, Aerospace Engineer, Cabin Safety and Environmental Systems Section, FAA, Seattle ACO Branch, 2200 South 216th St., Des Moines, WA 98198; phone and fax: 206-231-3959; email: nicole.s.tsang@faa.gov. Any commentary that the FAA receives that is not specifically designated as CBI will be placed in the public docket for this rulemaking.

Background

The FAA issued AD 2021-07-09, Amendment 39-21486 (86 FR 17899, April 7, 2021) (AD 2021-07-09), for all The Boeing Company Model 747-100, 747-100B, 747-100B SUD, 747-200B, 747-200C, 747-200F, 747-300, 747-400, 747-400D, 747-400F, 747SR, and 747SP series airplanes. AD 2021-07-09 was prompted by reports of sealant deteriorating on the outside of the center wing fuel tank and analysis showing that sealant may deteriorate inside the tank due to excess heat from TADDs. AD 2021-07-09 was also prompted by reports indicating that the high temperature composite material TADD failed. AD 2021-07-09 requires replacing original fiberglass fabric material with high temperature composite material TADDs, repetitively inspecting the TADDs for damage, and as applicable inspecting the center wing fuel tank secondary fuel barrier coating and primary sealant for damage, and repairing damage. The agency issued AD 2021-07-09 to address potential hot air leakage from original fiberglass fabric material or high temperature composite material TADD that can cause damage to the center wing fuel tank secondary fuel barrier coating and primary sealant, which can cause fuel leakage into an ignition zone, possibly resulting in a fire or explosion.

Actions Since AD 2021-07-09 Was Issued

The FAA issued AD 2021-07-09 as an interim action and indicated that the FAA might consider additional rulemaking. Since AD 2021-07-09 was issued, Boeing received further data from operators complying with AD 2021-07-09 and continued to investigate the unsafe condition. Based on the information Boeing received, the FAA has determined that the existing requirements do not adequately address the unsafe condition.

FAA's Determination

The FAA is issuing this NPRM after determining that the unsafe condition described previously is likely to exist or develop on other products of the same type design.

Related Service Information Under 1 CFR Part 51

The FAA reviewed Boeing Alert Requirements Bulletin 747-21A2577 RB, Revision 1, dated March 9, 2022. This service information specifies procedures for repetitive detailed inspections for damage of TADDs made of original fiberglass fabric material and high temperature composite material, repetitive replacement of TADDs, and repair of damaged TADDs.

The FAA also reviewed Boeing Alert Service Bulletin 747-21A2577, Revision 1, dated March 9, 2022. This service information specifies, among other things, the list of original fiberglass fabric material TADD assembly part numbers in Appendix A of Boeing Alert Service Bulletin 747-21A2577, Revision 1, dated March 9, 2022, and a list of high temperature composite material TADD assembly part numbers in Appendix B of Boeing Alert Service Bulletin 747-21A2577, Revision 1, dated March 9, 2022. Appendix A and Appendix B of Boeing Alert Service Bulletin 747-21A2577, Revision 1, dated March 9, 2022, were not included in Boeing Alert Requirements Bulletin 747-21A2577 RB, Revision 1, dated March 9, 2022. The parts listed in Appendix A are affected parts that are prohibited from installation.

This service information is reasonably available because the interested parties have access to it through their normal course of business or by the means identified in the ADDRESSES section.

Proposed AD Requirements in This NPRM

Although this proposed AD does not explicitly restate the requirements of AD 2021-07-09, this proposed AD would retain certain requirements of AD 2021-07-09. Those requirements are referenced in the service information identified previously, except for any differences identified as exceptions in the regulatory text of this proposed AD; that service information, in turn, is referenced in paragraph (g) of this proposed AD. This proposed AD would continue to require repetitive inspections of the TADDs for damage (loose connection between a TADD and the adjacent duct, delamination, removed surface material, softened material, or blackened material on the TADD surface that can be easily rubbed off by hand) with revised compliance times, and repair if applicable. For certain airplane configurations, the TADDs' repetitive inspection intervals were reduced from 3,600 flight hours to 1,200 flight hours if the number of flight hours since the TADD replacement are not known. For airplanes with certain configurations and certain conditions, the TADDs' repetitive inspection intervals were increased from 1,200 flight hours after replacement to 16,000 flight hours after replacement. This proposed AD would also require repetitive replacement of the TADDs and would remove the structural inspections of the center fuel tanks. In addition, this proposed AD would also prohibit the installation of affected parts.

For information on the procedures and compliance times, see this service information at regulations.gov by searching for and locating Docket No. FAA-2022-1058.

Costs of Compliance

The FAA estimates that this AD, if adopted as proposed, would affect 104 airplanes of U.S. registry. The FAA estimates the following costs to comply with this proposed AD:

Estimated Costs
Action | Labor cost | Parts cost | Cost per product | Cost on U.S. operators
Retained repetitive inspections (AD2021-07-09) | Up to 44 work-hours × $85 per hour = up to $3,740 per inspection cycle | $0 | Up to $3,740 per inspection cycle | Up to $388,960 per inspection cycle.
Repetitive TADD replacement | Up to 49 work-hours × $85 per hour = $4,165 per replacement cycle | Up to $12,000 | Up to $16,165 per inspection cycle | Up to $1,681,160 per replacement cycle.

The FAA has received no definitive data on which to base the cost estimates for the on-condition repairs specified in this proposed AD.

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-07-09, Amendment 39-21486 (86 FR 17899, April 7, 2021), and

b. Adding the following new AD:

The Boeing Company: Docket No. FAA-2022-1058; Project Identifier AD-2022-00256-T.

(a) Comments Due Date

The FAA must receive comments on this airworthiness directive (AD) action by October 24, 2022.

(b) Affected ADs

This AD replaces AD 2021-07-09, Amendment 39-21486 (86 FR 17899, April 7, 2021) (AD 2021-07-09).

(c) Applicability

This AD applies to all The Boeing Company Model 747-100, 747-100B, 747-100B SUD, 747-200B, 747-200C, 747-200F, 747-300, 747-400, 747-400D, 747-400F, 747SR, and 747SP series airplanes, certificated in any category.

(d) Subject

Air Transport Association (ATA) of America Code 21, Air conditioning.

(e) Unsafe Condition

This AD was prompted by reports of sealant deteriorating on the outside of the center wing fuel tank and analysis showing that sealant could deteriorate inside the fuel tank due to excess heat from trim air diffuser ducts or sidewall riser duct assemblies (collectively referred to as TADDs), and by the determination that existing requirements do not adequately address the unsafe condition. The FAA is issuing this AD to address potential hot air leakage from original fiberglass fabric material or high temperature composite material TADDs that can cause damage to the center wing fuel tank secondary fuel barrier coating and primary sealant, which can cause fuel leakage into an ignition zone, possibly resulting in a fire or explosion.

(f) Compliance

Comply with this AD within the compliance times specified, unless already done.

(g) Required Actions

Except as specified by paragraph (h) of this AD: At the applicable times specified in the “Compliance” paragraph of Boeing Alert Requirements Bulletin 747-21A2577 RB, Revision 1, dated March 9, 2022, do all applicable actions identified in, and in accordance with, the Accomplishment Instructions of Boeing Alert Requirements Bulletin 747-21A2577 RB, Revision 1, dated March 9, 2022.

Note 1 to paragraph (g): Guidance for accomplishing the actions required by this AD can be found in Boeing Alert Service Bulletin 747-21A2577, Revision 1, dated March 9, 2022, which is referred to in Boeing Alert Requirements Bulletin 747-21A2577 RB, Revision 1, dated March 9, 2022.

(h) Exceptions to Service Information Specifications

(1) Where the Compliance Time column of the tables in the “Compliance” paragraph of Boeing Alert Requirements Bulletin 747-21A2577 RB, Revision 1, dated March 9, 2022, uses the phrase “the Revision 1 date of Requirements Bulletin 747-21A2577 RB,” this AD requires using “the effective date of this AD.”

(2) Where Boeing Alert Requirements Bulletin 747-21A2577 RB, Revision 1, dated March 9, 2022, specifies contacting Boeing for repair instructions: This AD requires doing the repair before further flight using a method approved in accordance with the procedures specified in paragraph (k) of this AD.

(3) Where Boeing Alert Requirements Bulletin 747-21A2577 RB, Revision 1, dated March 9, 2022, refers to “new high temperature composite material TADD,” for this AD high temperature composite material TADD is defined as the list of TADDs, indicated by part numbers, in Appendix B of Boeing Alert Service Bulletin 747-21A2577, Revision 1, dated March 9, 2022.

(4) Where Boeing Alert Requirements Bulletin 747-21A2577 RB, Revision 1, dated March 9, 2022, refers to “original fiberglass fabric material TADD,” for this AD, original fiberglass fabric material TADD is defined as the list of TADDs, indicated by part numbers, in Appendix A of Boeing Alert Service Bulletin 747-21A2577, Revision 1, dated March 9, 2022.

(i) Parts Installation Prohibition

As of the effective date of this AD, no person may install an original fiberglass fabric material TADD assembly, having a part number listed in Appendix A of Boeing Alert Service Bulletin 747-21A2577, Revision 1, dated March 9, 2022, on any airplane.

(j) Credit for Previous Actions

This paragraph provides credit for the actions specified in paragraph (g) of this AD, if those actions were performed before the effective date of this AD using Boeing Alert Requirements Bulletin 747-21A2577 RB, dated February 18, 2020, which was incorporated by reference in AD 2021-07-09.

(k) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved for AD 2021-07-09 are approved as AMOCs for the corresponding provisions of Boeing Alert Requirements Bulletin 747-21A2577 RB, Revision 1, dated March 9, 2022, that are required by paragraph (g) of this AD.

(l) Related Information

(1) For more information about this AD, contact Nicole S. Tsang, Aerospace Engineer, Cabin Safety and Environmental Systems Section, FAA, Seattle ACO Branch, 2200 South 216th St., Des Moines, WA 98198; phone and fax: 206-231-3959; email: nicole.s.tsang@faa.gov.

(2) For service information identified in this AD, contact Boeing Commercial Airplanes, Attention: Contractual & Data Services (C&DS), 2600 Westminster Blvd., MC 110 SK57, Seal Beach, CA 90740 5600; telephone 562-797-1717; internet myboeingfleet.com. You may view this referenced service information at the FAA, Airworthiness Products Section, Operational Safety Branch, 2200 South 216th St., Des Moines, WA. For information on the availability of this material at the FAA, call 206-231-3195.

Issued on August 17, 2022.
Christina Underwood,
Acting Director, Compliance & Airworthiness Division, Aircraft Certification Service.

[FR Doc. 2022-19273 Filed 9-7-22; 8:45 am]

BILLING CODE 4910-13-P